DEPARTMENT OF ENERGY

Federal Energy Regulatory Commission

[Docket No. RM01-5-000]

Electronic Tariff Filings; Notice of Revisions to eTariff

Take notice that on September 30, 2024, the Commission will implement revisions to the eTariff program to enhance the capabilities of the system by enabling filing pipelines and utilities to identify the correct lead applicants for a proceeding and to have more flexibility in the programs used to create and file tariffs by filing tariff records in Microsoft Word or Excel format.

As a result of adding the capability to file in Word or Excel, certain changes will be made in the way eTariff is displayed on the eTariff Public Viewer and eLibrary. The tariff files will be converted to .pdf using print-to-pdf for display. The Public Viewer display should appear as it does today for .pdf filings. The tariff files in eLibrary will display in a FERC Generated PDF document. The metadata for each tariff record will display on one page (rather than at the top of the page) and the tariff text will follow on the next page.

Along with this document, the Commission also is posting, under the same eLibrary Accession Number, a marked version of the revised XML schema and the revised validation codes that will be associated with these revisions.

Starting on June 28, 2024, a sandbox will be made available for pipeline and utility companies to make test filings under the new XML schema.

In addition, pursuant to the Commission's previous practice in developing eTariff standards,¹ the North American Standards Organization (NAESB) will be hosting a virtual meeting with Commission staff on July 23, 2024, starting at 10 a.m. EST to discuss these issues. People wishing to attend the meeting should contact NAESB at: (713) 356-0060 or naesb@naesb.org to register and obtain log-on information.

¹ Electronic Tariff Filings, Order No. 714, 124 FERC ¶ 61,270 (2008).

I. Lead Applicant Identification

The eTariff XML schema will add a mandatory lead applicant field. The lead applicant field will determine the lead party making the filing and will be added to the Commission's service list. This change will require the filing pipeline or utility to add the Company Identifier (CID) for the lead applicant to the XML schema. Filings without a lead applicant CID will be rejected. Filers also must continue to include the company id field to identify the company whose tariff is being revised. If pipelines and utilities are filing with themselves as the lead applicant, they will include their own CID in both the lead_applicant_id field and the company_id field if they are filing for themselves.

The Commission also will post on the eTariff website, https://www.ferc.gov/ferc-online/etariff, a CSV file with CID numbers and will endeavor to update that file monthly.

Pipelines and utilities will continue to make the eTariff filings through the eFiling web page at https://ferconline.ferc.gov/Login.aspx. The contact information associated with the CID of the lead applicant will be added to the Commission's service list. Filers need to be aware that although the filing pipeline or utility will be presented with the following screen and will have to enter an email address as signer, the company and email will not be added to the service list.

If the pipeline or utility wants to be considered a co-applicant, or enter additional email addresses, they must enter that information on a subsequent screen in the eFiling process along with information about any other co-applicants.

II. Flexibility To Include Microsoft Word and Excel Files as Tariff Records

Filing pipelines and utilities will be able to include tariff records in Microsoft Word and Excel as well as submitting tariff records as RTF or PDF. The Commission wants to provide as much flexibility in making these filings as possible, particularly in Excel, but to assure that tariff records can be read easily, certain formatting requirements are necessary.

A. Word Files

Word files may be in portrait or landscape format with a format no larger than 11″x17″ ledger size.

B. Excel Files

The following are the formatting requirements for Excel files.

1. Filings may be in portrait or landscape.

2. Page size may be no larger than 11″x17″ ledger size.

3. Excel file must properly define the print range, including print titles and print page order, so the document can render properly in PDF. Filers need to be careful to ensure that their print range does not result in generating numerous blank pages.

4. If columns or rows roll over to subsequent pages, columns or row headers need to be repeated so that subsequent pages are easily understood.

5. An accurate marked version of the tariff record still must be filed as an attachment.

Questions on these changes should be directed to: Michael Goldenberg at Michael.Goldenberg@ferc.gov or James Sarikas at James.Sarikas@ferc.gov.

Dated: June 11, 2024.
Debbie-Anne A. Reese,
Acting Secretary.

[FR Doc. 2024-13284 Filed 6-14-24; 8:45 am]

BILLING CODE 6717-01-P